DEPARTMENT OF TRANSPORTATION

Federal Aviation Administration

14 CFR Part 39

[Docket No. 2003-NM-165-AD; Amendment 39-13225; AD 2003-14-06]

RIN 2120-AA64

Airworthiness Directives; Boeing Model 737-200, -200C, -300, -400, and -500 Series Airplanes

AGENCY: Federal Aviation Administration, DOT.

ACTION: Final rule; correction.

SUMMARY: This document corrects a typographical error that appeared in airworthiness directive (AD) 2003-14-06 that was published in the Federal Register on July 9, 2003 (68 FR 40759). The typographical error resulted in an incorrect AD number in one location of the document. This AD is applicable to certain Boeing Model 737-200, -200C, -300, -400, and -500 series airplanes. This AD requires repetitive inspections for cracking of certain lap splices, and corrective action if necessary.

DATES: Effective July 14, 2003.

FOR FURTHER INFORMATION CONTACT: Duong Tran, Aerospace Engineer, Airframe Branch, ANM-120S, FAA, Seattle Aircraft Certification Office, 1601 Lind Avenue, SW., Renton, Washington 98055-4056; telephone (425) 917-6452; fax (425) 917-6590.

SUPPLEMENTARY INFORMATION: Airworthiness Directive (AD) 2003-14-06, amendment 39-13225, applicable to certain Boeing Model 737-200, -200C, -300, -400, and -500 series airplanes, was published in the Federal Register on July 9, 2003 (68 FR 40759). That AD requires repetitive inspections for cracking of certain lap splices, and corrective action if necessary.

As published, the AD number appears as “2003-14-60” in the Product Identification line in the regulatory text of the AD. The correct AD number is 2003-14-06. The number is referenced correctly throughout the remainder of the document.

Since no other part of the regulatory information has been changed, the final rule is not being republished in the Federal Register.

The effective date of this AD remains July 14, 2003.

§ 39.13 [Corrected]

On page 40761, in the first column, the Product Identification line of AD 2003-14-06 is corrected to read as follows:

* * * * *

2003-14-06 Boeing: Amendment 39-13225. Docket 2003-NM-165-AD.

* * * * *

Issued in Renton, Washington, on July 15, 2003.
Ali Bahrami,
Acting Manager, Transport Airplane Directorate, Aircraft Certification Service.

[FR Doc. 03-18421 Filed 7-18-03; 8:45 am]

BILLING CODE 4910-13-P